DEPARTMENT OF STATE

[Public Notice 5583]

60-Day Notice of Proposed Information Collection: DS-5090e, Human Rights Abuses Reporting Site; OMB No. 1405-0175

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Human Rights Abuses Reporting Site.

• OMB Control Number: 1405-0175.

• Type of Request: Extension of a Currently Approved Collection.

• Originating Office: Bureau of Western Hemisphere Affairs, Office of Cuban Affairs (WHA/CCA).

• Form Number: DS-5090e, Human Rights Abuses Reporting Site.

• Respondents: Victims of human rights abuses in Cuba.

• Estimated Number of Respondents: 7,300 annually.

• Estimated Number of Responses: 7,300 annually.

• Average Hours Per Response: 15 minutes per response.

• Total Estimated Burden: 1,825 hours.

• Frequency: On occasion.

• Obligation to Respond: Voluntary.

DATE(S): The Department will accept comments from the public up to 60 days from October 18, 2006.

ADDRESSES: You may submit comments by any of the following methods:

• E-mail: CubaHRVL@state.gov.

• Mail (paper, disk, or CD-ROM submissions): Coordinator of Cuban Affairs; Department of State; 2201 C Street, NW., Washington, DC 20520.

• Hand Delivery or Courier: Coordinator of Cuban Affairs; Department of State; 2201 C Street, NW., Washington, DC 20520.

You must include the DS form number (if applicable), information collection title, and OMB control number in any correspondence.

FOR FURTHER INFORMATION CONTACT: Direct requests for additional information regarding the collection listed in this notice, including requests for copies of the proposed information collection and supporting documents, to the Coordinator of Cuban Affairs; Department of State; 2201 C Street, NW., Washington, DC 20520, who may be reached at 202-647-9272, or by e-mail at CubaHRVL@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The President has asked the interagency community to use the temporary transfer of power from Fidel Castro to his brother Raul Castro in August 2006 as an historic moment to work to encourage a democratic transition in Cuba. In keeping with the recommendations of the Commission for Assistance to a Free Cuba report, the State Department will seek information from the public about human rights abuses committed by Cuban authorities, including the military and members of the security forces. The information is sought in accordance with, inter alia, 22 U.S.C. 2656 and 2304(a)(1). The principal purpose for collecting the information is to prepare and maintain a database of human rights abusers in Cuba. The Department may use this information in connection with its responsibilities for the protection and promotion of human rights and for the conduct of foreign affairs, as well as for other appropriate purposes as a routine part of the Department's activities.

Methodology: Information will be collected through electronic submission.

Additional Information: None.

Dated: September 21, 2006.
Caleb McCarry,
Cuba Transition Coordinator, Bureau of Western Hemisphere Affairs, Department of State.

[FR Doc. E6-17339 Filed 10-17-06; 8:45 am]

BILLING CODE 4710-29-P